DEPARTMENT OF HOMELAND SECURITY

Coast Guard

33 CFR Part 165

[Docket No. USCG-2008-0349]

RIN 1625-AA00

Safety Zone; Fireworks, Beverly, MA

AGENCY: Coast Guard, DHS.

ACTION: Temporary final rule.

SUMMARY: The Coast Guard is creating a temporary safety zone for a fireworks event being held in Beverly, Massachusetts. This safety zone will last for the limited duration of the fireworks. The zone is necessary to protect spectators, participants, and vessels from the hazards associated with fireworks displays.

DATES: This rule is effective from 9 p.m. through 11 p.m. on August 10, 2008.

ADDRESSES: Comments and material received from the public, as well as documents mentioned in this preamble as being available in the docket, are part of docket USCG-2008-0349 and are available online at http://www.regulations.gov. This material is also available for inspection or copying at two locations: the Docket Management Facility (M-30), U.S. Department of Transportation, West Building Ground Floor, Room W12-140, 1200 New Jersey Avenue, SE., Washington, DC 20590, between 9 a.m. and 5 p.m., Monday through Friday, except Federal holidays, and the U.S. Coast Guard Sector Boston, 427 Commercial St., Boston, MA 02109 between 7 a.m. and 3 p.m., Monday through Friday, except Federal holidays.

FOR FURTHER INFORMATION CONTACT: If you have questions on this rule, call Chief Petty Officer Eldridge McFadden at 617-223-5160. If you have questions on viewing the docket, call Renee V. Wright, Program Manager, Docket Operations, telephone 202-366-9826.

SUPPLEMENTARY INFORMATION:

Regulatory Information

On June 4, 2008, we published a notice of proposed rulemaking (NPRM) entitled Safety Zones; Fireworks, Central and Northern Massachusetts in the Federal Register (73 FR 31785). We received no letters commenting on the proposed rule. No public meeting was requested, and none was held. Under 5 U.S.C. 553(d)(3), the Coast Guard finds that good cause exists for making this rule effective less than 30 days after publication in the Federal Register. This rule must be in effect on August 10, 2008, in order to protect the public from the dangers associated with fireworks displays. Any delay in the regulation's effective date could expose the public to unnecessary danger and therefore be contrary to the public's interest.

Background and Purpose

A Notice of Proposed Rulemaking was published on June 4, 2008 (73 FR 31785), proposing the establishment of six safety zones around various fireworks displays on or near navigable waterways in Massachusetts this summer. At this time, five of those events have already occurred. This temporary rule establishes a safety zone surrounding the remaining fireworks event as described in the NPRM. The zone will protect the maritime public from the dangers inherent in waterborne fireworks displays. The Captain of the Port does not anticipate any negative impact on vessel traffic due to implementation of these temporary safety zones. Public notifications will be made prior to the effective period of the zone via Broadcast and Local Notice to Mariners.

Discussion of Comments and Changes

No comments were made. However, the following changes were made to the original regulatory text proposed by the Notice of Proposed Rulemaking published on June 4, 2008 (73 FR 31785): Items (a)(2) through (a)(6) were removed as the events have occurred.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

No comments were made. However, the following changes were made to the original regulatory text proposed by the Notice of Proposed Rulemaking published on June 4, 2008 (73 FR 31785): Items (a)(2) through (a)(6) were removed as the events have occurred.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule would affect the following entities, some of which may be small entities: The owners or operators of vessels intending to transit or anchor in the affected portion of the coastal waterways of Massachusetts between 9 p.m. and 11 p.m. on August 10, 2008.

This safety zone will not have a significant economic impact on a substantial number of small entities for the following reasons: This rule would be in effect for only two hours, vessel traffic can navigate around the safety zone during the effective period, and advance notification via broadcast notice to mariners and Local Notice to Mariners will be made before and during the effective period.

Assistance for Small Entities

Under section 213(a) of the Small Business Regulatory Enforcement Fairness Act of 1996 (Pub. L. 104-121), in the NPRM we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

No comments were made. However, the following changes were made to the original regulatory text proposed by the Notice of Proposed Rulemaking published on June 4, 2008 (73 FR 31785): Items (a)(2) through (a)(6) were removed as the events have occurred.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble. No comments were made. However, the following changes were made to the original regulatory text proposed by the Notice of Proposed Rulemaking published on June 4, 2008 (73 FR 31785): Items (a)(2) through (a)(6) were removed as the events have occurred.

Taking of Private Property

This rule will not effect a taking of private property or otherwise have taking implications under Executive Order 12630, Governmental Actions and Interference with Constitutionally Protected Property Rights. No comments were made. However, the following changes were made to the original regulatory text proposed by the Notice of Proposed Rulemaking published on June 4, 2008 (73 FR 31785): Items (a)(2) through (a)(6) were removed as the events have occurred.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes. No comments were made. However, the following changes were made to the original regulatory text proposed by the Notice of Proposed Rulemaking published on June 4, 2008 (73 FR 31785): Items (a)(2) through (a)(6) were removed as the events have occurred.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211. No comments were made. However, the following changes were made to the original regulatory text proposed by the Notice of Proposed Rulemaking published on June 4, 2008 (73 FR 31785): Items (a)(2) through (a)(6) were removed as the events have occurred.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards. No comments were made. However, the following changes were made to the original regulatory text proposed by the Notice of Proposed Rulemaking published on June 4, 2008 (73 FR 31785): Items (a)(2) through (a)(6) were removed as the events have occurred.

Environment

We have analyzed this rule under Commandant Instruction M16475.lD and Department of Homeland Security Management Directive 5100.1, which guide the Coast Guard in complying with the National Environmental Policy Act of 1969 (NEPA)(42 U.S.C. 4321-4370f), and have concluded, under the instruction, that there are no factors in this case that would limit the use of a categorical exclusion under section 2.B.2 of the Instruction. Therefore, this rule is categorically excluded, under figure 2-1, paragraph (34)(g), of the Instruction, from further environmental documentation.

A final environmental analysis checklist and a final categorical exclusion determination will be available in the docket where indicated under ADDRESSES.

List of Subjects in 33 CFR Part 165

Harbors, Marine safety, Navigation (water), Reporting and recordkeeping requirements, Security measures, and Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1(g), 6.04-1, 6.04-6, and 160.5; Pub. L. 107-295, 116 Stat. 2064; Department of Homeland Security Delegation No. 0170.1.

2. Add § 165.T01-0349 to read as follows:

§ 165.T01-0349 Safety Zone; Fireworks, Beverly, MA.

(a) Location. The following waterborne fireworks events include safety zones as described herein: (1) Beverly Homecoming Fireworks Event, Beverly, MA.

(i) All waters of Beverly Harbor, from surface to bottom, within a 200-yard radius of the fireworks barge located at approximate position 42°32′37″ N, 070°52′09″ W. These coordinates are based upon NAD83 datum.

(ii) Effective Date. This rule will be effective from 9 p.m. through 11 p.m. on August 10, 2008.

(b) Definition: As used in this section, designated representative means any Coast Guard commissioned, warrant, or petty officer, or any Federal, State, or local law enforcement officer authorized to enforce this regulation on behalf of the Coast Guard Captain of the Port (COTP).

(c) Regulations. (1) In accordance with the general regulations in section 165.23 of this part, entry into or remaining in the safety zones described in paragraph (a) of this section is prohibited unless authorized by the Coast Guard Captain of the Port (COTP) Boston, or the COTP's designated representative.

(2) Persons desiring to transit within the safety zones established in this section may contact the Captain of the Port at telephone number 617-223-3008 or via on-scene patrol personnel on VHF channel 16 to seek permission to do so. If permission is granted, all persons and vessels must comply with the instructions of the Captain of the Port or his or her designated representative.

Dated: July 24, 2008.
Claudia C. Gelzer,
Commander, U.S. Coast Guard, Acting Captain of the Port Boston, Massachusetts.

[FR Doc. E8-18076 Filed 8-5-08; 8:45 am]

BILLING CODE 4910-15-P